DEPARTMENT OF COMMERCE

National Oceanic and Atmospheric Administration

[RTID 0648-XE994]

Snapper-Grouper Fishery of the South Atlantic; Exempted Fishing Permit

AGENCY: National Marine Fisheries Service (NMFS), National Oceanic and Atmospheric Administration (NOAA), Commerce.

ACTION: Notice of receipt of an application for exempted fishing permit; request for comments.

SUMMARY: NMFS announces the receipt of an application for an exempted fishing permit (EFP) from the Florida Fish and Wildlife Conservation Commission (FWC). If granted, the EFP would authorize limited recreational harvest of red snapper outside of any Federal recreational season in South Atlantic Federal waters and exempt that harvest from the red snapper recreational bag and possession limits, recreational annual catch limits (ACLs), general reporting requirements for charter vessels and headboats, and accountability measures (AMs). FWC's project is intended to test alternative recreational management strategies that could be used by the South Atlantic Fishery Management Council (Council) to reduce the number of discards of red snapper and other federally managed snapper-grouper species, create additional opportunities to participate in sustainable recreational harvest, and improve angler satisfaction.

DATES: Written comments must be received on or before July 22, 2025.

ADDRESSES: You may submit comments on the application, identified by [NOAA-NMFS-2025-0174] by any of the following methods:

• Electronic Submission: Submit all electronic public comments via the Federal e-Rulemaking Portal. Visit https://www.regulations.gov and enter “NOAA-NMFS-2025-0174”, in the Search box. Click the “Comment” icon, complete the required fields, and enter or attach your comments.

• Mail: Submit written comments to Mary Vara, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP application may be obtained from the Southeast Regional Office website at https://www.fisheries.noaa.gov/southeast/bycatch/south-atlantic-red-snapper-exempted-fishing-permits-2025-2026. This notice discusses application 1 on the website.

FOR FURTHER INFORMATION CONTACT: Mary Vara, 727-824-5305, mary.vara@noaa.gov.

SUPPLEMENTARY INFORMATION: The EFP is requested under the authority of the Magnuson-Stevens Fishery Conservation and Management Act (Magnuson-Stevens Act; 16 U.S.C. 1801 et seq.), and regulations at 50 CFR 600.745(b) concerning exempted fishing.

The project described in this EFP request is a continuation of one of several projects that NMFS funded in 2024 based on a notice of funding opportunity that NMFS published during the fall of 2023, seeking projects that would explore new approaches to better understand and reduce red snapper dead discards and increase fishing opportunities in the South Atlantic snapper-grouper fishery. NMFS noticed the EFP application for that FWC project in the Federal Register (89 FR 23979, April 5, 2024) and subsequently issued an EFP.

In 2021, a stock assessment was completed for South Atlantic red snapper (Southeast Data, Assessment, and Review (SEDAR) 73, 2021) which indicated that the South Atlantic red snapper stock was undergoing overfishing and was overfished. NMFS completed an update of the SEDAR 73 (2021) assessment in December 2024 (SEDAR 73 Update Assessment [2024]). The update assessment indicates that the stock is still experiencing overfishing, is no longer overfished, and is still rebuilding. On June 11, 2025, NMFS published in the Federal Register the final rule to implement Amendment 59 to the Fishery Management Plan for the Snapper-Grouper Fishery of the South Atlantic (90 FR 24527). Among other measures, Amendment 59 revised the fishing mortality at maximum sustainable yield proxy for determining overfishing, and as a result, the red snapper stock is no longer classified as undergoing overfishing. Discard mortality continues to be the primary source of fishing mortality, with a high number of discards coming from the recreational sector. Therefore, NMFS has identified a need for improved data to support the evaluation of alternative management strategies that could be used to reduce recreational discards of red snapper and other managed snapper-grouper species, ensure opportunities for sustainable harvest, and improve angler satisfaction.

Considering this need, FWC has proposed this project to accomplish the following objectives: (1) Collaborate with recreational vessel captains and recreational fishermen to collect catch and discard information within the snapper-grouper fishery; (2) Recruit private recreational and charter vessel captains to test a unique snapper-grouper aggregate recreational bag limit and its impact on reducing the magnitude of regulatory discards; (3) Allow project participants to harvest red snapper outside of the Federal red snapper recreational season, accompanied by a mandatory reporting requirement and provisions for validation and proof of participation; (4) Develop a unique web-based application to record information from project participants; (5) Develop an education course required for all project participants; and (6) Evaluate recreational fishermen satisfaction through pre- and post-participation surveys and semi-structured interviews with project participants.

The EFP would begin on August 1, 2025, and end on September 30, 2026. The project location would occur offshore of the east coast of Florida and include state and Federal waters from the Florida/Georgia state line south to a line running east from the NASA General Assembly Building in Cape Canaveral, Florida. For this project, FWC proposes to create a “Study Fleet” of six private recreational vessels, six charter vessels, and one headboat vessel that would each take up to four fishing trips per quarter (a 3-month project period). The sampling period for the entire study would be 12 months and thus each quarter would last 3 months. Study Fleet fishing trips for a selected private vessel or charter vessel would be limited to a maximum of 6 recreational fishermen per vessel (excluding the captain and crew of charter vessels), and all recreational fishermen onboard a selected vessel would be participants in the study. Headboat vessels take more than 6 paying passengers, and all recreational fishermen onboard a selected vessel would be participants in the study. All recreational fishermen on project vessels would be required to fish with a single hook rig with a circle hook.

During these trips, a recreational fisherman onboard a vessel would be allowed to harvest no more than 10 fish per person per day under a unique snapper-grouper aggregate recreational bag limit in state and Federal waters. Both private recreational and charter vessels would each be allowed to retain a recreational vessel limit of 24 South Atlantic red snapper, and headboats would be allowed to retain a recreational vessel limit of 36 South Atlantic red snapper, regardless of the number of persons onboard the vessel. While trying to obtain the unique 10-fish snapper-grouper aggregate bag limit, each recreational fishermen onboard a selected vessel would be required to keep all snapper-grouper species that meet legal requirements, such as minimum size limits, and would retain all red snapper caught, up to the 24 red snapper recreational vessel limit for private and charter vessels and the 36 red snapper recreational vessel limit for headboat vessels while also not exceeding each individual's aggregate recreational bag limit. Each recreational fisherman on a Study Fleet vessel trip would be required to stop directed snapper-grouper fishing once the unique snapper-grouper aggregate recreational bag limit of 10-fish has been met or the recreational vessel limit of up to the 24 red snapper for private recreational and charter vessels and 36 red snapper for headboat vessels has been met, whichever occurs first. After meeting one of these limits, participants may target other species such as coastal migratory pelagics and dolphinfish, but they would not be allowed to target or harvest any snapper-grouper species managed by the Council for the remainder of the trip.

If approved, the EFP would exempt recreational fishermen participating in FWC's Study Fleet from the Federal regulations at 50 CFR 622.176(b)(1) through (5) (snapper-grouper reporting regulations), 50 CFR 622.183(b)(5) (recreational sector closures for red snapper), 50 CFR 622.187(b)(9) (bag and possession limits for red snapper), and 50 CFR 622.193(y)(2) (ACLs and AMs for red snapper). The FWC is not requesting exemptions from any Federal regulations other than these. Participants would have to abide by all fishery regulations otherwise not exempted from this study.

Under the EFP, the unique 10-fish snapper-grouper aggregate recreational bag limit requested by FWC is as follows:

• Only 1 fish can be gag, black grouper, or scamp;

• Up to 2 fish can be red grouper, yellowfin grouper, yellowmouth grouper, coney, graysby, red hind, or rock hind;

• Only 1 fish can be red porgy, blueline tilefish, or golden tilefish;

• Only 1 fish can be greater amberjack;

• Up to 3 fish can be lesser amberjack, almaco jack, or banded rudderfish;

• Up to 5 fish can be black sea bass;

• Up to 5 fish can be gray triggerfish;

• Up to 7 fish can be grunts;

• Up to 7 fish can be Atlantic spadefish or bar jack;

• Up to 7 fish can be porgies (excluding red porgy);

• Up to 7 fish can be schoolmaster snapper, gray snapper, lane snapper, yellowtail snapper, queen snapper, silk snapper, or blackfin snapper;

• Up to 5 fish can be vermilion snapper, cubera snapper, or mutton snapper.

Until the unique snapper-grouper aggregate recreational bag limit is reached or the red snapper recreational vessel limit is reached, all species within the snapper-grouper fishery, except those with regulatory closures, could be recreationally harvested by participants. Species not listed above would not count towards the FWC's proposed 10-fish snapper-grouper aggregate recreational bag limit. Should a regulatory closure occur for any species (other than red snapper), participants would be prohibited to harvest that species. FWC intends that this unique aggregate recreational bag limit would cause recreational fishermen to reach their daily recreational bag limit faster, which would then result in them stopping fishing for snapper-grouper species. FWC expects this to then lead to reduced discards and enhanced fisherman satisfaction across the snapper-grouper recreational sector. Throughout the duration of the proposed project, a maximum of 5,184 South Atlantic red snapper would be allowed to be harvested on Study Fleet trips.

If the project is approved, FWC would solicit applications from captains of private recreational vessels, charter vessels, and headboat vessels that fish within the proposed study location. All project charter vessels and headboat vessels would need to have a valid Federal Charter Vessel/Headboat Permit for South Atlantic Snapper-Grouper species and a Florida Saltwater Charter License prior to participating in the FWC Study Fleet. Any private recreational captain, charter vessel captain, or headboat vessel captain that does not have a resource violation as determined by FWC would be eligible to participate in the FWC Study Fleet.

From public applications, the FWC would select the vessels to be part of the FWC Study Fleet each quarter based on the area intended to be fished, vessel type, and the homeport of these vessels. The selection criteria are intended to result in a comprehensive coverage of the study location. The terms of the EFP would apply to those persons onboard the vessels that are selected to be part of the FWC Study Fleet. All recreational fishermen fishing from private recreational vessels would be required to have a valid Florida recreational fishing license (or be exempt) and be signed up for Florida's State Reef Fish Survey prior to fishing aboard a trip as part of the FWC Study Fleet. FWC will have specific requirements regarding captains and crew and private anglers who must view and complete an online educational course. Therefore, FWC would be able to account for and provide NMFS with a list of participants (e.g., state license, registration of each vessel and vessel name during designated fishing trips, name of participants and contact information, etc.) to be covered under the EFP before operations begin under the EFP.

Prior to taking a FWC Study Fleet fishing trip, each captain would have to coordinate the date/dates of the trip with FWC. Using their unique FWC provided identification number, captains would be required to notify FWC 24 hours prior to a planned project trip and report the date and state registration number of the vessel they intend to fish from in order to receive an FWC authorization document, which must be available to present to law enforcement if requested at-sea or dockside. When the FWC Study Fleet vessel returns to port, the captain must hail in and let FWC know the estimated time and location of arrival. Upon return to port from a trip, the captain and all recreational fishermen aboard a project vessel would be required to allow FWC to collect biological samples from harvested fish and conduct interviews. All captains would be required to report data through an FWC web-based application about their fishing trip within 48 hours of returning to port. Headboat vessels would be required to identify the number and name of people (i.e., captain and crew) who will record data on a Study Fleet trip.

NMFS finds the application warrants further consideration based on a preliminary review. Possible conditions the agency may impose on the EFP, if granted, include but are not limited to, a prohibition on fishing within marine protected areas, marine sanctuaries, or special management zones without additional authorization.

A final decision on issuance of the EFP will depend on NMFS' review of public comments received on the application, consultations with the appropriate fishery management agencies of the affected states, the Council, and the U.S. Coast Guard, and a determination that the activities to be taken under the EFP are consistent with all other applicable laws.

Authority: 16 U.S.C. 1801 et seq.

Dated: July 2, 2025.
Kelly Denit,
Director, Office of Sustainable Fisheries, National Marine Fisheries Service.

[FR Doc. 2025-12595 Filed 7-3-25; 8:45 am]

BILLING CODE 3510-22-P